ENVIRONMENTAL PROTECTION AGENCY

[OPP-64045; FRL 6488-8]

Notice of Receipt of Requests for Amendments to Delete Uses in Certain Pesticide Registrations

AGENCY: Environmental Protection Agency (EPA).

ACTION: Notice.

SUMMARY: In accordance with section 6(f)(1) of the Federal Insecticide, Fungicide and Rodenticide Act (FIFRA), as amended, EPA is issuing a notice of receipt of request for amendment by registrants to delete uses in certain pesticide registrations.

DATES: Unless a request is withdrawn, the Agency will approve these use deletions and the deletions will become effective on August 14, 2000.

FOR FURTHER INFORMATION CONTACT: By mail: James A. Hollins, Office of Pesticide Programs (7502C), Environmental Protection Agency, Ariel Rios Building, 1200 Pennsylvania Avenue, N.W., Washington, DC 20460. Office location for commercial courier delivery, telephone number and e-mail addresses: Rm. 224, Crystal Mall No. 2, 1921 Jefferson Davis Hwys, Arlington, VA 22202, (703) 305-5761; e-mail: hollins.james@epa.gov

SUPPLEMENTARY INFORMATION:

I. General Information

A. Does This Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional information, Including Copies of this Document and Other Related Documents?

1. Electronically. You may obtain electronic copies of this document and certain other related documents that might be available electronically, from the EPA Internet Home Page at http://www.epa.gov. To access this document, on the Home page select “Laws and Regulations” and then look up the entry for this document under the “Federal Register—Environmental Documents.” You can also go directly to the Federal Register listing at http://www.epa.gov/fedrgstr/.

2. In person. The Agency has established an official record for this action under docket control number OPP-64045. The official record consists of the documents specifically referenced in this action, any public comments received during an applicable comment period, and other information related to this action, including any information claimed as confidential business information (CBI). This official record includes the documents that are physically located in the docket, as well as the documents that are referenced in those documents. The public version of the official record does not include any information claimed as CBI. The public version of this official record, which includes printed, paper versions of any electronic comments submitted during as applicable comment period, is available for inspection in the Public Information and Records Integrity Branch (PIRIB), Rm. 119, Crystal Mall #2, 1921 Jefferson Davis Hwys, Arlington, VA, from 8:30 a.m. to 4:00 p.m., Monday through Friday, excluding legal holidays. The PIRIB telephone number is (703) 305-5805.

II. What Action is the Agency Taking?

This notice announces receipt by the Agency of applications from registrants to delete uses in six pesticide registrations. These registrations are listed in the following Table 1 by registration number, product name, active ingredient and specific uses deleted.

Table 1.— Registrations with Requests for Amendments to Delete Uses in Certain Pesticide Registrations
EPA Reg. No. | Product Name | Active Ingredient | Delete From Label
002792-00028 | Deccosol 122 Concentrate | Sodium o-phenylphenate | Sweet potatoes, apples, cantaloupes
003125-00319 | Bayleton Technical | Triadimefon | Use on wheat, sugar beet, cucurbit and grasses grown for seed
008278-00003 | Metro (Tested) All Purpose Bug-Bait | Metaldehyde; Carbaryl | Use on all garden vegetable crops
010107-00043 | Sevin 5% Dust | Carbaryl | Use on cotton
035915-00010 | Oxon Italia Simazine Technical | Simazine | Use on banana crops
068156-00006 | Ipimethalin-L | Pendimethalin | Use on turf grasses, Ornamentals, landscape & grounds maintenance, non-cropland areas & total vegetative control

Users of these products who desire continued use on crops or sites being deleted should contact the applicable registrant before August 14, 2000 to discuss withdrawal of the application for amendment. This 180-day period will also permit interested members of the public to intercede with registrants prior to the Agency's approval of the deletion.

The following Table 2 includes the names and addresses of record for all registrants of the products in Table 1, in sequence by EPA company number.

Table 2.— Registrants requesting Amendments to Delete Uses in Certain Pesticide Registrations
EPA Company Number | Company Name and Address
002792 | Decco/Elf Atochem North America, Inc., 1713 S. California Avenue, Monrovia, CA 91016.
003125 | Bayer Corporation, 8400 Hawthorn Road, P.O. Box 4913, Kansas City, MO 64120.
008278 | Metro Biological Laboratory, c/o Robinson Associates, 1183 Alder Tree Way, Sacramento, CA 95831.
010107 | Van Diest Supply Co., 1434 220th Street, P.O. Box 610, Webster City, IA 50595.
035915 | Sipcam Agro USA, Inc., 70 Mansell Court, Suite 230, Roswell, GA 30076.
068156 | Dintec Agrichemicals, 9330 Zionsville Road, Indianapolis, IN 46268.
069421 | Black Flag Insect Control Systems, c/o PS&RC, P.O. Box 493, Pleasanton, CA 94566.

III. What is the Agency Authority for Taking this Action?

Section 6(f)(1) of FIFRA, provides that a registrant of a pesticide product may at any time request that any of its pesticide registrations be amended to delete one or more uses. The Act further provides that, before acting on the request, EPA must publish a notice of receipt of any such request in the Federal Register. Thereafter, the Administrator may approve such a request.

IV. Procedures for Withdrawal of Request

Registrants who choose to withdraw a request for use deletion must submit such withdrawal in writing to James A. Hollins, at the address under FOR FURTHER INFORMATION CONTACT postmarked August 14, 2000.

V. Provisions for Disposition of Existing Stocks

The Agency has authorized the registrants to sell or distribute product under the previously approved labeling for a period of 18 months after approval of the revision, unless other restrictions have been imposed, as in special review actions.

List of Subjects

Environmental protection, Pesticides and pests, Product registrations.

Dated: January 24, 2000.
Richard D. Schmitt,
Acting Director, Information Resources Services Division, Office of Pesticide Programs.

[FR Doc. 00-3218 Filed 2-15-00; 8:45 am]

BILLING CODE 6560-50-F